DEPARTMENT OF DEFENSE

Department of the Army, Corps of Engineers

Notice of Availability for the Draft Program Environmental Impact Statement/ Environmental Impact Report for the San Diego Creek Watershed Special Area Management Plan (SAMP)/Watershed Streambed Alteration Agreement (WSAA) Process, Orange County, CA

AGENCY: Army Corps of Engineers, DoD.

ACTION: Notice.

SUMMARY: Pursuant to section 102(2)(c) of the National Environmental Policy Act (NEPA) of 1969 (as amended), the U.S. Army Corps of Engineers, Los Angeles District, Regulatory Division (Corps), in coordination with the California Department of Fish and Game, Habitat Conservation Planning, South Coast Region (Department), has completed a Draft Program Environmental Impact Statement/Environmental Impact Report (EIS/EIR) for the San Diego Creek Watershed Special Area Management Plan (SAMP)/Watershed Streambed Alteration Agreement (WSAA) Process. The San Diego Creek Watershed SAMP is a plan, which is comprised of the following elements: an Analytical Framework for Corps and Department decisionmaking; modified, watershed-specific permitting processes, including watershed- and resource-based permitting protocols and a mitigation framework for the Corps and the Department; a Strategic Mitigation Plan, which is based upon a riparian ecosystem restoration plan; a Mitigation Coordination Program to achieve implementation of the Strategic Mitigation Plan and foster a coordinated approach to aquatic resource management in the Watershed; and an implementation plan for the SAMP. The SAMP establishes alternative (aquatic resource-based and watershed-specific) permitting procedures for projects within the San Diego Creek Watershed that will alter the bed, bank or channel of rivers, streams, and lakes and associated riparian habitats under the Department's jurisdiction, and discharge dredged or fill material into waters of the United States subject to the Corps jurisdiction. The SAMP permitting procedures will improve the capacity of the Corps and the Department to evaluate such projects, as compared to the process each agency would normally follow in permitting such projects on a case-by-case basis.

FOR FURTHER INFORMATION CONTACT: Ms. Corice Farrar, Project Manager, Regulatory Division, U.S. Army Corps of Engineers, Los Angeles District at (213) 452-3296, by e-mail at Corice.J.Farrar@usace.army.mil.

SUPPLEMENTARY INFORMATION: Bound copies of the Draft Program EIS/EIR will be made available to the public for review at the following library reference desks: University of California at Irvine, Langson Library (Irvine, California); Newport Beach Central Library (Newport Beach, California); Heritage Park Regional Library (Irvine, California); and Santa Ana Public Library (Santa Ana, California). In addition, in-house review copies will be made available at the Department's San Diego Office by calling (858) 462-4201 and Regional Office in Los Alamitos by calling (562) 342-7115. A public meeting will be held at the Peter and Mary Muth Interpretive Center located at 2301 University Drive, Newport Beach, California 92660 on April 1, 2008, from 7 p.m. to 8:30 p.m. If you would like additional information or an electronic copy of the Draft Program EIS/EIR, please contact Ms. Corice Farrar by phoning (213) 452-3296, by sending an e-mail to the address shown above, or by accessing the U.S. Army Corps of Engineers, Los Angeles District's Web site at: http://www.spl.usace.army.mil/samp/sandiegocreeksamp.htm. Comments on the Draft Program EIS/EIR may be submitted in writing to Corice Farrar, either mailed to P.O. Box 532711, Los Angeles, CA 90053-2325, or delivered to 915 Wilshire Boulevard, Suite 980, Los Angeles, CA 90017-3401, from March 7, 2008, to April 21, 2008, by 5 p.m. for consideration by the lead agencies in their decision-making process leading to certification of the Final Program EIS/EIR and a Record of Decision.

Dated: February 27, 2008.
David J. Castanon,
Chief, Regulatory Division, U.S. Army Corps of Engineers, Los Angeles District.

[FR Doc. E8-4574 Filed 3-6-08; 8:45 am]

BILLING CODE 3710-KF-P